DEPARTMENT OF TRANSPORTATION

Federal Highway Administration

Environmental Impact Statement: Miami-Dade County, FL

AGENCY: Federal Highway Administration (FHWA), USDOT.

ACTION: Notice of Intent.

SUMMARY: The FHWA is issuing this notice to advise the public that an Environmental Impact Statement (EIS) will be prepared for a proposed highway project in Miami-Dade County, Florida.

FOR FURTHER INFORMATION CONTACT: Mr. Gregory E. Williams, P.E., District Transportation Engineer, Federal Highway Administration, 545 John Knox Road, Suite 200, Tallahassee, Florida 32303. Telephone: (850) 942-9650, extension 3031.

SUPPLEMENTARY INFORMATION: The FHWA, in cooperation with the Florida Department of Transportation (FDOT) will prepare an EIS for a proposal to improve Interstate Route I-395 in Miami-Dade County, Florida. The proposed improvement would involve the reconstruction of I-395 from I-95/Midtown Interchange in Biscayne Bay, a distance of approximately 1.2 miles. Improvements to the corridor are considered necessary to provide for the existing and projected traffic demand.

Alternatives under consideration include (1) taking no action; (2) elevated reconstruction with ramps at Midtown Interchange; (3) elevated reconstruction with ramps at Miami Avenue; (4) a tunnel design; and (5) an open-cut design.

Letters describing the proposed action and soliciting comments will be sent to appropriate Federal, State, and local agencies, and to private organizations and citizens who have expressed interest in this project. A series of public meetings will be held in the City of Miami, Miami-Dade County between July 2005 and January 2007. In addition, a public hearing will be held. Public notice will be given of the time and place of the meetings and hearing. The Draft EIS will be made available for public and agency review and comment.

A formal scoping meeting is planned for the project, and the date and location will be established later.

To ensure that the full range of issues related to the proposed action is addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding inter-governmental consultation on Federal programs and activities apply to this program)
Issued on: November 16, 2005.
George B. Hadley,
Environmental Programs Coordinator, Tallahassee, Florida.

[FR Doc. 05-23150 Filed 11-22-05; 8:45 am]

BILLING CODE 4910-22-M